FEDERAL COMMUNICATIONS COMMISSION

47 CFR Parts 73 and 76

[MM Docket No. 98-204; FCC 04-103]

Review of the Commission's Broadcast and Cable Equal Employment Opportunity Rules and Policies

AGENCY: Federal Communications Commission.

ACTION: Final rule; announcement of effective date.

SUMMARY: This document announces the effective date of rules published in the Federal Register on June 23, 2004. The final rules revised broadcast and multichannel video programming distributor (MVPD) equal employment opportunity (EEO) requirements.

DATES: The amendments to 47 CFR 73.3612 and 76.1802, published in the Federal Register at 69 FR 34950, June 23, 2004, are effective February 21, 2013.

FOR FURTHER INFORMATION CONTACT: For additional information contact Lewis Pulley, 202-418-1450, Media Bureau, Policy Division.

SUPPLEMENTARY INFORMATION: In a Third Report and Order in MM Docket No. 98-204; FCC 04-103, published in the Federal Register, 69 FR 34950, June 23, 2004, the Commission adopted rules which contained information collection requirements subject to the Paperwork Reduction Act. The document stated that the rule changes requiring OMB approval would become effective after OMB approval and announcement in the Federal Register.

On July 22, 2004, the Office of Management and Budget (OMB) approved the information collection requirements contained in 47 CFR Sections 73.3612 and 76.1802. The information collections are assigned to OMB Control No. 3060-0390 and 3060-0095, respectively.

Federal Communications Commission.
Marlene H. Dortch,
Secretary.

[FR Doc. 2013-03939 Filed 2-20-13; 8:45 am]

BILLING CODE 6712-01-P